DEPARTMENT OF DEFENSE

National Imagery and Mapping Agency; Privacy Act of 1974; System of Records

AGENCY: National Imagery and Mapping Agency, DoD.

ACTION: Notice to amend systems of records.

SUMMARY: The National Imagery and Mapping Agency (NIMA) is proposing to delete one and amend one system of records notice in the NIMA inventory of record systems subject to the Privacy Act of 1974, (5 U.S.C. 552a), as amended.

DATES: This proposed action will be effective without further notice on November 16, 2001 unless comments are received which result in a contrary determination.

ADDRESSES: Comments should be sent to the Office of General Counsel, National Imagery and Mapping Agency, Mail Stop D-10, 4600 Sangamore Road, Bethesda, MD 20816-5003.

FOR FURTHER INFORMATION CONTACT: Mr. Tom Willess, Associate General Counsel, at (301) 227-2953.

SUPPLEMENTARY INFORMATION: The National Imagery and Mapping Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: October 11, 2001.
L.M. Bynum,
Alternate OSD Federal Register Liaison Officer, Department of Defense.

Deletion

B0901-08

System name:

Civilian Employee Drug Abuse Testing Program Records (July 13, 1995, 60 FR 36124).

Reason:

NIMA now maintains these records under the OPM Government-wide Privacy Act systems of records notices.

Amendment

B1202-17

System name:

Contracting Officer Designation Files (February 22, 1993, 58 FR 10189).

Changes:

* * * * *

Authority for maintenance of the system:

Delete entry and replace with “5 U.S.C. 301, Departmental Regulations.”

* * * * *

Storage:

Delete “and/or Kardex book” from entry.

Retrievability:

Delete entry and replace with “Information is retrieved by name of contracting officer.”

Safeguards:

Delete entry and replace with “Records are maintained in a secured area with access limited to authorized personnel whose duties require access. The database can only be accessed via a correct user ID and password.”

* * * * *

Record source categories:

Delete entry and replace with “Certificate of Appointment and background information on education, training, experience, Standard Form l402, and specific information on procurement authorities delegated.”

* * * * *

B1202-17

System name:

Contracting Officer Designation Files.

System location:

NIMA Contracting Officers are located at NIMA Headquarters in Bethesda, MD; Reston, VA; Washington Navy Yard, Washington, DC; and NIMA St. Louis, MO. Official mailing addresses are published as an appendix to NIMA’s compilation of systems of records notices.

Categories of individuals covered by the system:

Employee designated Contracting Officer and Contracting Officer Representative.

Categories of records in the system:

Documents reflecting the designation and rescission of Contracting Officers and Contracting Officers representative which includes the specific procurement authorities delegated.

Authority for maintenance of the system:

5 U.S.C. 301, Departmental Regulations; Federal Acquisition Regulations (48 CFR, Chapter 1); Defense Acquisition Regulations Supplement (48 CFR Ch. 2); NIMA Instruction for Acquisition, Program Development and Approval; NIMA Instruction 5100.1R3.

Purpose(s):

To maintain documents showing individual designated as Contracting Officers; to include data reflecting limitations, restrictions on authority, and background information for use in other contracts.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of DMA's compilation of systems of records notices apply to this system.

Policies and practices for storing, retrieving, accessing, retaining, and disposing of records in the system:

Storage:

Paper records in file folders and on electronic medium.

Retrievability:

Information is retrieved by name of contracting officer.

Safeguards:

Records are maintained in a secured area with access limited to authorized personnel whose duties require access. The database can only be accessed via a correct user ID and password.

Retention and disposal:

Records are temporary. NIMA destroys these records upon the transfer, reassignment or termination of the contracting officer.

System manager(s) and address:

Procurement Technician, National Imagery Mapping Agency, PCP (D-15), 4600 Sangamore Road, Bethesda, MD 20816-5003.

Notification procedure:

Individuals seeking to determine whether information about themselves is contained in this system of records should address written inquiries to the National Imagery and Mapping Agency, 4600 Sangamore Road, GC (D10), Bethesda, MD 20816-5003.

Written requests for information should contain the full name of the individual, current address and telephone number.

Record access procedures:

Individuals seeking access to information about themselves contained in this system of records should address written inquiries to the National Imagery Mapping Agency, GC (D-10), 4600 Sangamore Road, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Certificate of Appointment and background information on education, training, experience, Standard Form l402, and specific information on procurement authorities delegated.

Exemptions claimed for the system:

None.

[FR Doc. 01-26070 Filed 10-16-01; 8:45 am]

BILLING CODE 5001-08-P